FEDERAL COMMUNICATIONS COMMISSION

[OMB 3060-1063]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before June 22, 2018. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control No.: 3060-1063.

Title: Global Mobile Personal Communications by Satellite (GMPCS) Authorization, Marketing and Importation Rules.

Form No.: Not Applicable.

Type of Review: Revision of a currently approved information collection.

Respondents: Business or other for-profit entities.

Number of Respondents: 17 respondents; 17 responses.

Estimated Time per Response: 1-24 hours per response.

Frequency of Response: On occasion reporting requirement.

Obligation To Respond: Required to obtain or retain benefits. The Commission has authority for this information collection pursuant to Sections 4(i), 301, 302(a), 303(e), 303(f), 303(g), 303(n) and 303(r) of the Communications Act of 1934, as amended; 47 U.S.C. 4(i), 301, 302(a), 303(e), 303(f), 303(g), 303(n) and 303(r).

Total Annual Burden: 595 hours.

Annual Cost Burden: None.

Privacy Act Impact Assessment: No impact(s).

Nature and Extent of Confidentiality: In general, there is no need for confidentiality with this collection of information.

Needs and Uses: On July 14, 2017, the Federal Communications Commission (“Commission”) released a First Report and Order titled, “In the Matter of Amendment of Parts 0, 1, 2, 15 and 18 of the Commission's Rules Regarding Authorization of Radiofrequency Equipment,” ET Docket No. 15-170 (FCC 17-93). In the First Report and Order, the Commission discontinued use of the “Statement Regarding the Importation of Radio Frequency Devices Capable of Harmful Interference,” (FCC Form 740) and eliminated 47 CFR 2.1205 and 2.1203(b), thus removing the Form 740 filing requirements. The agency concluded that there was no evidence indicating that the Form 740 filing process provided a substantial deterrent to illegal importation of RF devices, and that the existing filing requirement creates large burdens in light of the growth in the number and type of RF devices being imported, and that there is now a wider availability of product and manufacturer information, including that available to the FCC from the Custom and Border Protection's (CBP) database. The Form 740 was approved under OMB Control No. 3060-0059 and was under the purview of the Commission's Office of Engineering & Technology (OET).

The purposes of the revision of OMB Control No. 3060-1063 are to reflect a slight decrease in the number of satellite operators and/or GMPCS equipment manufacturers and changes resulting from the elimination of Form 740. Specifically, the number of respondents changed from 19 to 17 due to a decrease in the number of satellite operators and/or GMPCS equipment manufacturers. As a result of the elimination of the Form 740, the total annual burden hours changed from 684 to 595 and the total annual costs decreased from $13,110 to zero.

The purpose of this information collection is to maintain OMB approval of a certification requirement for portable GMPCS transceivers to prevent interference, reduce radio-frequency (“RF”) radiation exposure risk, and make regulatory treatment of portable GMPCS transceivers consistent with treatment of similar terrestrial wireless devices, such as cellular phones.

The Commission is requiring that applicants obtain authorization for the equipment by submitting an application and exhibits, including test data. If the Commission did not obtain such information, it would not be able to ascertain whether the equipment meets the FCC's technical standards for operation in the United States. Furthermore, the data is required to ensure that the equipment will not cause catastrophic interference to other telecommunications services that may impact the health and safety of American citizens.

Federal Communications Commission.
Marlene Dortch,
Secretary, Office of the Secretary.

[FR Doc. 2018-08377 Filed 4-20-18; 8:45 am]

BILLING CODE 6712-01-P